DEPARTMENT OF AGRICULTURE

Agricultural Marketing Service

[PY-99-005]

United States Grade Standards for Shell Eggs

AGENCY: Agricultural Marketing Service, USDA.

ACTION: Notice.

SUMMARY: The Agricultural Marketing Service (AMS) is changing the United States Grade Standards for Shell Eggs. Specifically, the changes delete the general term “Inedible eggs” and its definition, revise the definition of the general term “Loss” eggs by including examples of inedible eggs, revise the term descriptive of an A quality white, and delete specifications for packaging materials. These changes will simplify and clarify the terminology used and will remove information that is no longer of value to the industry.

EFFECTIVE DATE: July 20, 2000.

FOR FURTHER INFORMATION CONTACT: Elizabeth S. Crosby, Acting Chief, Standardization Branch, Poultry Program, Agricultural Marketing Service, U.S. Department of Agriculture, STOP 0259, room 3944-South, 1400 Independence Avenue, SW, Washington, DC 20250-0259, (202) 720-3506.

The updated United States Grade Standards for Shell Eggs are available through the above address or by calling (202) 720-3506, faxing (202) 690-0941, e-mailing elizabeth.crosby@usda.gov, or by accessing the Internet at www.ams.usda.gov/poultry/standards.

SUPPLEMENTARY INFORMATION: The Agricultural Marketing Act of 1946 (AMA), as amended (7 U.S.C. 1621 et seq.) authorizes the establishment of U.S. standards and grades for shell eggs. Section 203(c) of the AMA directs and authorizes the Secretary of Agriculture “to develop and improve standards of quality, condition, quantity, grade, and packaging and recommend and demonstrate such standards in order to encourage uniformity and consistency in commercial practices * * * ” AMS is committed to carrying out this authority in a manner that facilitates the marketing of agricultural commodities and makes copies of official standards available upon request. The United States Grade Standards for Shell Eggs do not appear in the Code of Federal Regulations but are maintained by USDA as AMS 56.

These standards and grades are maintained by AMS for use as a common language of trade among those buying and selling shell eggs. The standards are used by shell egg processors, wholesale traders, institutions, Federal and State governments, and retailers that sell eggs to the ultimate consumer. AMS is updating the United States Standards for Shell Eggs using the procedures that appear in Part 36 of Title 7 of the Code of Federal Regulations (7 CFR part 36).

AMS also administers a voluntary grading program for shell eggs under the AMA. Any interested person, commercial firm, or government agency can, for a fee, have AMS monitor processing operations and verify that the grade and size of eggs being packaged meet the requirements of the U.S. grade standards and weight classes. Eggs meeting the requirements can be packaged into cartons or other containers bearing the USDA grade shield. The grading program is implemented by the regulations in 7 CFR part 56.

Background and Comments

A notice of proposed changes to the United States Grade Standards for Shell Eggs was published in the Federal Register (64 FR 34764) on June 29, 1999. Comments on the proposal were solicited from interested parties until August 30, 1999. Three comments were received during the 60-day comment period.

Comments from two State Departments of Agriculture supported the proposed changes, saying the changes would simplify and clarify the grade standards. The third commenter was a manufacturer of equipment that can print on egg cartons and directly onto an eggshell. The commenter objected to the proposed removal of provisions dealing with packaging materials, asking instead for stricter packaging requirements dealing with date coding, safe handling labels for consumers, and carton aeration. The provisions concerning packaging materials proposed for removal do not pertain to package labeling or date coding, but provide program users with suggested package specifications for strength and construction. Additionally, the action suggested by the commenter regarding mandatory requirements for package aeration could not be effectively implemented in the provisions proposed for removal. The majority of table eggs (those not packaged under USDA's grading program) are not subject to these provisions. Therefore, after a review of the comments the Agency concludes that the standards should be revised as proposed, with one technical clarification described below.

Currently, the definition of “Loss” eggs includes inedible eggs. There is also a separate definition for “Inedible eggs” that includes examples of such eggs. When applying the grade tolerances of the standard, there is no need to separately identify inedible eggs from loss eggs. Therefore, AMS is deleting the general term “Inedible eggs” and is adding examples of inedible eggs to the definition of “Loss” eggs. This clarifies that eggs with rots, green whites, stuck yolks, blood rings, or free yolk in the white are to be classed as “Loss” eggs when applying grade tolerances.

AMS is making one technical clarification to the revisions as proposed. One example of an inedible egg currently listed in the “inedible eggs” definition was not included in the revised “Loss” definition. Therefore, to be clear that “sour eggs,” i.e., those eggs with an acid odor typically caused by microorganism growth within the egg, are to be classed as “Loss” eggs, this example has been added to the “Loss” definition.

Candling is the process of using light to help determine the quality of an egg. Automated mass scanning equipment is used by most egg packers to detect eggs with cracked shells and interior defects. Hand-candling is done to spot-check and determine accuracy in grading. The breakout method of determining interior quality enables graders and students to calibrate their grading skills against an objective standard. In this method, a micrometer measures the height of the thick white of a broken-out egg and gives a direct reading in Haugh units. Currently, there is a Haugh unit range of “60 to 72” for A quality and “72 or higher” for AA quality. Because these values appear to overlap, AMS is revising the description for A quality to read “60 up to, but not including, 72.” This clarifies the wording and makes it consistent with the intent of the description.

Specifications for packaging materials are provided in the standards as examples of quality packaging. Since they would not have any recognized value to today's industry, AMS is deleting this section entirely.

Authority: 7 USC 1621-1627.

Dated: June 14, 2000.
Kathleen A. Merrigan,
Administrator, Agricultural Marketing Service.

[FR Doc. 00-15445 Filed 6-19-00; 8:45 am]

BILLING CODE 3410-02-P